SECURITIES AND EXCHANGE COMMISSION

17 CFR Part 232

[Release Nos. 33-10566A; 34-84325A; 39-2522A; IC-33261A]

Adoption of Updated EDGAR Filer Manual; Correction

AGENCY: Securities and Exchange Commission.

ACTION: Final rule; correction.

SUMMARY: The Securities and Exchange Commission published a document in the Federal Register of November 5, 2018 adopting revisions to the Electronic Data Gathering, Analysis, and Retrieval System (“EDGAR”) Filer Manual and related rules. There was a mistake in the SUPPLEMENTARY INFORMATION section.

DATES: Effective November 16, 2018.

FOR FURTHER INFORMATION CONTACT: Christian Windsor, EDGAR Business Office, Securities and Exchange Commission, 100 F Street NE, Washington, DC 20549, (202) 551-3419.

SUPPLEMENTARY INFORMATION: In FR Doc. 2018-24128 appearing on page 55264 in the Federal Register of Monday, November 5, 2018, the following corrections are made:

Correction

On page 55264, in the 20th line of the third column, the phrase “(Version 32)” is corrected to read “(Version 31)”.

Dated: November 9, 2018.
Eduardo A. Aleman,
Assistant Secretary.

[FR Doc. 2018-25005 Filed 11-15-18; 8:45 am]

BILLING CODE 8011-01-P